DEPARTMENT OF TRANSPORTATION

Coast Guard

33 CFR part 117

[CGD09-00-001]

RIN-2115-AE47

Drawbridge Operation Regulations; Pine River (Charlevoix), MI

AGENCY: Coast Guard, DOT.

ACTION: Direct final rule.

SUMMARY: By this direct final rule, Commander, Ninth Coast Guard District, is changing the regulations governing the U.S. Route 31 lift bridge, mile 0.3 over Pine River in Charlevoix, Michigan. Currently, the bridge is required to open twice an hour between 6 a.m. and 6 p.m. for recreational vessels all year long. This rule will allow the bridge to open for recreational vessels twice an hour between 6 a.m. and 10 p.m., April 1 through October 31, and require a 12-hour notice from all vessels for openings between January 1 and March 31.

DATES: This rule is effective June 20, 2000, unless the Coast Guard receives written adverse comments or written notice of intent to submit adverse comments on or before May 22, 2000. If adverse comment is received, the Coast Guard will publish a timely withdrawal or this rule in the Federal Register.

ADDRESSES: Comments may be mailed or delivered to: Commander (obr), Ninth Coast Guard District, 1240 East Ninth Street, Room 2019, Cleveland, OH 44199-2060 between 6:30 a.m. and 3 p.m., Monday through Friday, except Federal holidays. The telephone number is (216) 902-6084.

The District Commander maintains the public docket for this rulemaking. Comments will become part of this docket and will be available for inspection or copying at the address above.

FOR FURTHER INFORMATION CONTACT: Mr. Scot M. Striffler, Project Manager, Ninth Coast Guard District Bridge Branch, at (216) 902-6084.

SUPPLEMENTARY INFORMATION:

Request for Comments

The Coast Guard encourages interested persons to participate in this rulemaking by submitting written data, views or arguments for or against this rule. Persons submitting comments should include names and addresses, identify the rulemaking [CGD09-00-001] and the specific section of this rule to which each comment applies, and give the reason(s) for each comment. Please submit all comments and attachments in an unbound format, no larger than 8½ by 11 inches, suitable for copying and electronic filing. Persons wanting acknowledgement of receipt of comments should enclose a stamped, self-addressed postcard or envelope.

Regulatory Information

The Coast Guard is publishing a direct final rule, the procedures of which are outlined in 33 CFR 1.05-55, because no adverse comments are anticipated. If no adverse comments or any written notice of intent to submit adverse comment are received within the specified comment period, this rule will become effective as stated in the DATES section. In that case, prior to the effective date, the Coast Guard will public a document in the Federal Register stating that no adverse comment was received and announcing confirmation that this rule will become effective as scheduled. However, if the Coast Guard receives written adverse comment, the Coast Guard will publish in the final rule section of the Federal Register a timely withdrawal of this rule. If the Coast Guard decides to proceed with a rulemaking, a separate Notice of Proposed Rulemaking (NPRM) will be published and a new opportunity for comment provided.

A comment is considered “adverse” if the comment explains why this rule would be inappropriate, including a challenge to the rule's underlying premise or approach, or would be ineffective or unacceptable without a change.

Background and Purpose

The owner of the bridge, Michigan Department of Transportation (M-DOT), requested the Coast Guard approve a modified schedule for the bridge to reduce vehicular traffic delays in Charlevoix, MI, during the peak tourist season and to establish a permanent winter operating schedule. The bridge is currently required to open on signal for recreational vessels from three minutes before to three minutes after the hour and half-hour between the hours of 6 a.m. and 6 p.m. throughout the year. M-DOT has secured voluntary participation from local boaters since 1991 to extend the scheduled twice-an-hour openings between 6 p.m. and 10 p.m. on an annual basis. Additionally, the City of Charlevoix receives a large influx of tourist traffic between April and November, and has endorsed this schedule as a means to reduce vehicular traffic back-ups during their peak tourist season. Under the provisions of 33 CFR 117.45, M-DOT has requested, and received, permission from Commander, Ninth Coast Guard District, to operate the bridge with 12-hour advance notice from vessels between January 1 and March 31 since 1991. The Coast Guard has not received any user complaints concerning the voluntary schedule or winter operating schedule since it's inception in 1991.

Under this rule, the bridge will be required to open on signal for recreational vessels only from three minutes before to three minutes after the hour and half-hour between the hours of 6 a.m. and 10 p.m., 7 days a week, from April 1 until October 31. The bridge will open on signal for all vessels between 10 p.m. and 6 a.m. during this period, and at all times between November 1 and December 31. The bridge will open at all times for public vessels of the United States, state and local vessels used in public safety, commercial vessels, vessels seeking shelter from severe weather, and vessels in distress where a delay would endanger life or property. Between January 1 and March 31, the bridge will open on signal if at least 12 hours advance notice is provided by vessels prior to their intended time of passage.

The vehicular traffic count and bridge opening data provided by M-DOT indicated (during a 2-week sample period between August 16 and August 29, 1998) that requests for bridge openings averaged 1.4 times per day between the hours of 10 p.m. and 6 a.m., with 30.6 openings per day between the hours of 6 a.m. and 10 p.m. During this same sample period, 230.5 vehicles per hour crossed the bridge between the hours of 10 p.m. and 6 a.m., and 1186 vehicles per hour crossed between 6 a.m. and 10 p.m. Between 10 p.m. and 6 a.m., the fewest number of vehicles recorded (60) crossed between the 3 a.m. to 4 a.m. hour, while the largest number of vehicles (660) crossed between the 11 p.m. to 12 a.m. hour. Between 6 a.m. and 10 p.m., the fewest number of vehicles recorded (333) crossed during the 6 .a.m. to 7 a.m. hour, while the largest number of vehicles (1572) crossed during the 2 p.m. to 3 p.m. hour. The bridge opening logs showed 221 opening in the month of October 1998 with a mixture of recreational and commercial (or public) vessels. In November 1998, 81 openings were recorded, with only 8 of the 81 specifically for recreational vessels. Only 32 openings were recorded in December 1998 (none for recreational vessels), with 2 openings logged in both January and February, 1999. There were 8 openings logged for March 1999, and 105 openings for April 1999, including a large number of recreational vessels.

The Coast Guard concludes that the dates and times requested by M-DOT for this rule will adequately provide for the reasonable needs of navigation and help reduce vehicular traffic congestion during the peak tourist season in Charlevoix.

Regulatory Evaluation

This rule is not a significant regulatory action under section 3(f) of Executive Order 12866 and does not require an assessment of potential cost and benefits under section 6(a)(3) of that order. The Office of Management and Budget has not reviewed it under that order. It is not significant under the regulatory policies and procedures of the Department of Transportation (DOT) (44 FR 11040; February 26, 1979). The Coast Guard expects the economic impact of this rule to be so minimal that a full Regulatory Evaluation under paragraph 10e of the regulatory policies and procedures of DOT is unnecessary.

This determination is based on the fact that this rule only modestly changes the existing regulation, and passage through the bridge is available year-round, with few requested openings recorded during the winter months.

Small Entities

Under the Regulatory Flexibility Act (5 U.S.C. 601 et seq.), the Coast Guard must consider whether this rule will have a significant impact on a substantial number of small entities. “Small entities” may include small businesses and not-for-profit organizations that are independently owned and operated and are not dominant in their fields, and governmental jurisdictions with populations of less than 50,000 people.

This rule simply extends the hours (6 p.m. to 10 p.m.) that the bridge owner may limit openings for recreational vessels. Passage through the bridge is not restricted for commercial or public vessels. The 12-hour advance notice requirement during winter months is an accepted practice and only affects one known entity operating during those months.

Therefore, the Coast Guard certifies under 5 U.S.C. 605(b) that this rule will not have a significant economic impact on a substantial number of small entities.

Collection of Information

This rule does not provide for a collection-of-information requirement under the Paperwork Reduction Act (44 U.S.C. 3501 et seq.).

Federalism

The Coast Guard has analyzed this rule under the principles and criteria contained in Executive order 13132, and determined that this rule does not have federalism implications under that Order.

Unfunded Mandates Reform Act

The Unfunded Mandates Reform Act of 1995 (2 U.S.C. 1531-1538) governs the issuance of federal regulations that require unfunded mandates. An unfunded mandate is a regulation that requires a state, local, or tribal government or the private sector to incur direct costs without the federal government having first provided the funds to pay those unfunded mandate costs. This rule will not impose an unfunded mandate.

Taking of Private Property

This rule will not effect a talking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

The Coast Guard considered the environmental impact of this rule and concluded that, under figure 2-1, paragraph 34(g) of Commandant Instruction M16475.1C, this rule is categorically excluded from further environmental documentation. This rule changes a drawbridge regulation which has been found not to have a significant effect on the environment. A “Categorical Exclusion Determination” is not required.

List of Subjects in 33 CFR Part 117

Bridges.

For reasons set out in the preamble, the Coast Guard amends Part 117 of title 33, Code of Federal Regulations, as follows:

PART 117—DRAWBRIDGE OPERATION REGULATIONS

1. The authority citation for Part 117 continues to read as follows:

Authority: 33 U.S.C. 499; 49 CFR 1.46; 33 CFR 1.05-1(g); section 117.255 also issued under the authority of Pub. L. 102-587, 106 Stat. 5039.

2. Revise § 117.641 to red as follows:

§ 117.641 Pine River (Charlevoix).

(a) The draw of the U.S. 31 bridge, mile 0.3 at Charlevoix, shall be operated as follows:

(1) From April 1 through December 31, the draw shall open on signal; except from 6 a.m. to 10 p.m., April 1 to October 31, the draw need open only from three minutes before to three minutes after the hour and half-hour for recreational vessels. Public vessels of the United States, state or local vessels used for public safety, commercial vessels, vessels in distress, and vessels seeking shelter from severe weather shall be passed through the draw as soon as possible.

(2) From January 1, through March 31, the draw shall open on signal if at least 12 hours advance notice is provided prior to a vessel's intended time of passage.

(b) The owner of the bridge shall provide and keep in good legible condition two board gauges painted white with black figures not less than six inches high to indicate the vertical clearance under the closed draw at all water levels. The gages shall be placed on the bridge so that they are plainly visible to operators of vessels approaching the bridge either up or downstream.

Dated: March 14, 2000.
James D. Hull,
Rear Admiral, U.S. Coast Guard Commander, Ninth Coast Guard District.

[FR Doc. 00-7103 Filed 3-21-00; 8:45 am]

BILLING CODE 4910-15-M